DEPARTMENT OF COMMERCE

International Trade Administration

[A-570-176]

Certain Low Speed Personal Transportation Vehicles From the People's Republic of China: Preliminary Affirmative Determination of Sale at Less-Than-Fair-Value Investigation, Preliminary Affirmative Determination of Critical Circumstances, Postponement of Final Determination and Extension of Provisional Measures

AGENCY: Enforcement and Compliance, International Trade Administration, Department of Commerce.

SUMMARY: The U.S. Department of Commerce (Commerce) preliminarily determines that certain low speed personal transportation vehicles (LSPTVs) from the People's Republic of China (China) are being, or are likely to be, sold in the United States at less than fair value (LTFV). The period of investigation (POI) is October 1, 2023, through March 31, 2024. Interested parties are invited to comment on this preliminary determination.

DATES: Applicable January 30, 2025.

FOR FURTHER INFORMATION CONTACT: Jerry Xiao or Gorden Struck, AD/CVD Operations, Office II, Enforcement and Compliance, International Trade Administration, U.S. Department of Commerce, 1401 Constitution Avenue NW, Washington, DC 20230; telephone: (202) 482-2273 or (202) 482-8151, respectively.

SUPPLEMENTARY INFORMATION:

Background

This preliminary determination is made in accordance with section 733(b) of the Tariff Act of 1930, as amended (the Act). Commerce published the notice of initiation of this investigation on July 16, 2024.¹ On July 22, 2024, Commerce tolled certain deadlines in this administrative proceeding by seven days.² On November 13, 2024, Commerce postponed the preliminary determination of this investigation until January 23, 2025.³

¹ See Certain Low Speed Personal Transportation Vehicles from the People's Republic of China: Initiation of Less-Than-Fair-Value Investigation, 89 FR 57865 (July 16, 2024) (Initiation Notice).

² See Memorandum, “Tolling of Deadlines for Antidumping and Countervailing Duty Proceedings,” dated July 22, 2024.

³ See Low Speed Personal Transportation Vehicles from the People's Republic of China: Postponement of Preliminary Determination in the Less-Than-Fair-Value Investigation, 89 FR 89591 (November 13, 2024).

For a complete description of the events that followed the initiation of this investigation, see the Preliminary Decision Memorandum.⁴ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Affirmative Determination in the Less-Than-Fair-Value Investigation of Certain Low Speed Personal Transportation Vehicles from the People's Republic of China,” dated concurrently with, and hereby adopted by, this notice (Preliminary Decision Memorandum).

Scope of the Investigation

The products covered by this investigation are LSPTVs from China. For a complete description of the scope of this investigation, see Appendix I.

Scope Comments

In accordance with the Preamble to Commerce's regulations,⁵ in the Initiation Notice Commerce set aside a period of time for parties to raise issues regarding product coverage (i.e., scope).⁶ Certain interested parties commented on the scope of the investigation as it appeared in the Initiation Notice. Concurrent with the preliminary determination in the companion countervailing duty (CVD) investigation of LSPTVs from China,⁷ Commerce issued a preliminary scope modification memorandum in which it made one modification to the scope and also included proposed modifications to the scope language and invited interested parties to comment.⁸ For a summary of the product coverage comments and rebuttal responses submitted to the record for this preliminary determination, and accompanying discussion and analysis of all comments timely received, see the Preliminary Scope Decision Memorandum.⁹ Commerce is preliminarily modifying the scope language as it appeared in the LSPTVs CVD Preliminary Determination. See the scope in Appendix I to this notice.

⁵ See Antidumping Duties; Countervailing Duties, Final Rule, 62 FR 27296, 27323 (May 19, 1997) (Preamble).

⁶ See Initiation Notice, 89 FR at 57866.

⁷ See Certain Low Speed Personal Transportation Vehicles from the People's Republic of China: Preliminary Affirmative Countervailing Duty Determination, Preliminary Affirmative Determination of Critical Circumstances, in Part, and Alignment of Final Determination With Final Antidumping Duty Determination, 89 FR 96942 (December 6, 2024) (LSPTVs CVD Preliminary Determination).

⁸ See Memorandum, “Less-Than-Fair-Value and Countervailing Duty Investigations of Certain Low Speed Personal Transportation Vehicles from the People's Republic of China: Preliminary Scope Modification Memorandum,” dated November 25, 2024.

⁹ See Memorandum, “Less-Than-Fair-Value and Countervailing Duty Investigations of Certain Low Speed Personal Transportation Vehicles from the People's Republic of China: Preliminary Scope Decision Memorandum,” dated concurrently with this notice (Preliminary Scope Decision Memorandum).

Methodology

Commerce is conducting this investigation in accordance with section 731 of the Act. Commerce has calculated export prices and constructed export prices in accordance with sections 772(a) and (b) of the Act, respectively. Because China is a non-market economy (NME) within the meaning of section 771(18) of the Act, Commerce has calculated normal value (NV) in accordance with section 773(c) of the Act. Pursuant to sections 776(a) and (b) of the Act, Commerce preliminarily has relied upon facts otherwise available, with adverse inferences, for the China-wide entity. For a full description of the methodology underlying Commerce's preliminary determination, see the Preliminary Decision Memorandum.

Preliminary Affirmative Determination of Critical Circumstances

In accordance with section 733(e)(1) of the Act and 19 CFR 351.206(c), Commerce preliminarily determines that critical circumstances exist with respect to imports of LSPTVs from China for Guangdong Lvtong New Energy Electric Vehicle Technology Co., Ltd. (Guangdong Lvtong) and Xiamen Dalle New Energy Automobile Co., Ltd (Xiamen Dalle), the non-selected respondents eligible for a separate rate, and the China-wide entity. For a full description of the methodology and results of Commerce's analysis, see the Preliminary Decision Memorandum.

Combination Rates

In the Initiation Notice,¹⁰ Commerce stated that it would calculate producer/exporter combination rates for the respondents that are eligible for a separate rate in this investigation. Policy Bulletin 05.1 describes this practice.¹¹

¹⁰ See Initiation Notice, 88 FR at 57868.

¹¹ See Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Non-Selected Separate Rate

We preliminarily granted a separate rate to certain separate rate respondents that we did not select for individual examination.¹² In calculating the rate for non-individually examined separate rate respondents in an NME LTFV investigation, Commerce normally looks to section 735(c)(5)(A) of the Act, which pertains to the calculation of the all-others rate in a market economy LTFV investigation, for guidance. Pursuant to section 735(c)(5)(A) of the Act, normally this rate shall be an amount equal to the weighted average of the estimated weighted-average dumping margins established for those companies individually examined, excluding any margins that are zero, de minimis, or based entirely under section 776 of the Act.

¹² See the Preliminary Decision Memorandum for additional details.

Commerce calculated individual estimated weighted-average dumping margins for Guangdong Lvtong and Xiamen Dalle that are not zero, de minimis, or based entirely on facts otherwise available. Therefore, we are preliminarily determining the dumping rate for the non-selected separate rate companies (listed in Appendix III) based on the weighted-average of the calculated rates determined for the mandatory respondents, Guangdong Lvtong and Xiamen Dalle,¹³ in accordance with section 735(c)(5)(A) of the Act. See the table below in the “Preliminary Determination” section of this notice.

¹³ We have calculated (A) a weighted-average of the dumping margins calculated for the mandatory respondents; (B) a simple average of the dumping margins calculated for the mandatory respondents; and (C) a weighted-average of the dumping margins calculated for the mandatory respondents using each company's publicly-ranged values for the merchandise under consideration. We would compare (B) and (C) to (A) and select the rate closest to (A) as the most appropriate rate for all other companies. See Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Determination

Commerce preliminarily determines that the following estimated weighted-average dumping margins exist:

Exporter | Producer | Estimated weighted-average dumping margin (percent) | Cash deposit rate (adjusted for subsidy offset) (percent)
Guangdong Lvtong New Energy Electric Vehicle Technology Co., Ltd | Guangdong Lvtong New Energy Electric Vehicle Technology Co., Ltd | 127.35 | 127.29
Xiamen Dalle New Energy Automobile Co., Ltd | Xiamen Dalle New Energy Automobile Co., Ltd | 262.55 | 262.55
Companies Eligible for a Separate Rate (see Appendix III) |  | 248.19 | 248.16
China-Wide Entity |  | * 478.09 | 478.09
* This rate is based on facts available with adverse inferences.

Suspension of Liquidation

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-country exporters of merchandise under consideration not listed in the table above, the cash deposit rate is the cash deposit rate applicable to the Chinese producer/exporter combination (or the China-wide entity) that supplied that third-country exporter.

Section 733(e)(2) of the Act provides that, given an affirmative determination of critical circumstances, any suspension of liquidation shall apply to unliquidated entries of merchandise entered, or withdrawn from warehouse, for consumption on or after the later of: (a) the date that is 90 days before the date on which the suspension of liquidation was first ordered; or (b) the date on which notice of initiation of the investigation was published. Commerce preliminarily finds that critical circumstances exist for imports of subject merchandise from the non-selected companies eligible for a separate rate and the China-wide entity.¹⁴ In accordance with section 733(e)(2)(A) of the Act, the suspension of liquidation shall apply to all unliquidated entries of merchandise from all exporters that were entered, or withdrawn from warehouse, for consumption on or after the date that is 90 days before the publication of this notice in the Federal Register.

¹⁴ See Preliminary Decision Memorandum.

To determine the cash deposit rate, Commerce normally adjusts the estimated weighted-average dumping margin by the amount of domestic subsidy pass-through and export subsidies determined in a companion CVD proceeding when CVD provisional measures are in effect. Accordingly, where Commerce has made a preliminary affirmative determination for domestic subsidy pass-through or export subsidies, Commerce has offset the calculated estimated weighted-average dumping margin by the appropriate rate. Any such adjusted rates may be found in the “Preliminary Determination” section's chart of estimated weighted-average dumping margins above.

Should provisional measures in the companion CVD investigation expire prior to the expiration of provisional measures in this LTFV investigation, Commerce will direct CBP to begin collecting cash deposits at a rate equal to the estimated weighted-average dumping margins calculated in this preliminary determination unadjusted for the passed-through domestic subsidies or for export subsidies at the time the CVD provisional measures expire.

These suspension of liquidation instructions will remain in effect until further notice.

Disclosure

Commerce intends to disclose to interested parties the calculations and analysis it performed in connection with this preliminary determination within five days of the public announcement or, if there is no public announcement, within five days of the date of publication of this notice in the Federal Register in accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

As provided in section 782(i)(1) of the Act, Commerce intends to verify information relied upon in making its final determination.

Public Comment

For the deadlines for submitting scope-related case and rebuttal briefs, refer to the Preliminary Scope Decision Memorandum.¹⁵

¹⁵ See Preliminary Scope Decision Memorandum.

Case briefs or other written comments on non-scope issues may be submitted to the Assistant Secretary for Enforcement and Compliance no later than seven days after the date on which the final verification report is issued in this investigation.¹⁶ A timeline for the submission of case briefs and written comments will be notified to interested parties at a later date. Rebuttal briefs, limited to issues raised in the case briefs, may be filed not later than five days after the date for filing case briefs.¹⁷ Interested parties who submit case or rebuttal briefs in this proceeding must submit: (1) a table of contents listing each issue; and (2) a table of authorities.¹⁸

¹⁶ See 19 CFR 351.309(c)(1)(i); see also 19 CFR 351.303 (for general filing requirements).

¹⁷ See 19 CFR 351.309(d); see also Administrative Protective Order, Service, and Other Procedures in Antidumping and Countervailing Duty Proceedings, 88 FR 67069, 67077 (September 29, 2023) (APO and Final Service Rule).

¹⁸ See 19 CFR 351.309(c)(2) and (d)(2).

As provided under 19 CFR 351.309(c)(2) and (d)(2), in prior proceedings we have encouraged interested parties to provide an executive summary of their briefs that should be limited to five pages total, including footnotes. In this investigation, we instead request that interested parties provide at the beginning of their briefs a public, executive summary for each issue raised in their briefs.¹⁹ Further, we request that interested parties limit their public executive summary of each issue to no more than 450 words, not including citations. We intend to use the public executive summaries as the basis of the comment summaries included in the issues and decision memorandum that will accompany the final determination in this investigation. We request that interested parties include footnotes for relevant citations in the executive summary of each issue. Note that Commerce has amended certain of its requirements pertaining to the service of documents in 19 CFR 351.303(f).²⁰

¹⁹ We use the term “issue” here to describe an argument that Commerce would normally address in a comment of the Issues and Decision Memorandum.

²⁰ See APO and Final Service Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain (1) the party's name, address, and telephone number; (2) the number of participants and whether any participant is a foreign national; and (3) a list of the issues to be discussed. If a request for a hearing is made, Commerce intends to hold the hearing at a time and date to be determined.

Postponement of Final Determination and Extension of Provisional Measures

Section 735(a)(2) of the Act provides that a final determination may be postponed until no later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping duty determination be accompanied by a request for extension of provisional measures from a four-month period to a period not more than six months in duration.

On November 11, 2024, pursuant to 19 CFR 351.210(e), Xiamen Dalle requested that Commerce postpone the final determination and that provisional measures be extended to a period not to exceed six months.²¹ In accordance with section 735(a)(2)(A) of the Act and 19 CFR 351.210(b)(2)(ii), because: (1) the preliminary determination is affirmative; (2) the requesting exporter account for a significant proportion of exports of the subject merchandise; and (3) no compelling reasons for denial exist, Commerce is postponing the final determination and extending the provisional measures from a four-month period to a period not greater than six months. Accordingly, Commerce's final determination will be published no later than 135 days after the date of publication of this preliminary determination.

²¹ See Xiamen Dalle's Letter, “Request for Postponement of Final AD Determination,” dated November 11, 2024.

U.S. International Trade Commission (ITC) Notification

In accordance with section 733(f) of the Act, Commerce will notify the ITC of its preliminary determination of sales at LTFV. If the final determination is affirmative, the ITC will determine before the later of 120 days after the date of this preliminary determination or 45 days after the final determination whether imports of the subject merchandise are materially injuring, or threaten material injury to, the U.S. industry.

Notification to Interested Parties

This preliminary determination is issued and published in accordance with sections 733(f) and 777(i)(1) of the Act, and 19 CFR 351.205(c).

Dated: January 23, 2025.
Abdelali Elouaradia,
Acting Assistant Secretary for Enforcement and Compliance.

Appendix I

Scope of the Investigation

The merchandise covered by this investigation consists of certain low speed personal transportation vehicles (LSPTVs) and subassemblies thereof, whether finished or unfinished and whether assembled or unassembled, with or without tires, wheels, seats, steering columns and steering wheels, canopies, roofs, or batteries. LSPTVs meeting this description are open-air vehicles i.e., may have a permanent roof, may have a permanent windshield, and may be covered with temporary sides, with a minimum of four wheels, a steering wheel, a traditional side-by-side or in-line row seating arrangement (i.e., non-straddle), foot operated accelerator and brake pedals, and a gross vehicle weight of no greater than 5,500 pounds. The main power source for subject LSPTVs is either an electric motor and battery (including but not limited to lithium-ion batteries, lithium phosphate batteries, lead acid batteries, and absorbed glass mat batteries) or a gas-powered internal combustion engine. Subject LSPTVs may be described as golf carts, golf cars, low speed vehicles, personal transportation vehicles, or light utility vehicles.

LSPTVs subject to this investigation should have a maximum top nameplate speed of no greater than 25 miles per hour as required by federal, state, and local laws and regulations. Subject LSPTVs with a maximum top nameplate speed greater than 20 miles per hour normally must comply with the U.S. Department of Transportation's Federal Motor Vehicle Safety Standards for Low-Speed Vehicles set forth in 49 CFR 571.500. LSPTVs that otherwise meet the physical description of this scope but are not certified under 49 CFR 571.500 and are not certified under other sections of subpart B of the Federal Motor Vehicle Safety Standards (49 CFR part 571), are not excluded from this investigation. LSPTVs that are certified under both 49 CFR 571.500 and other sections of subpart B of the Federal Motor Vehicle Safety Standards remain subject to the scope of this investigation. Subject LSPTVs that have a maximum top nameplate speed of less than 25 miles per hour may be certified to the SAE International (SAE) standards SAE J2258 and SAE J2358. LSPTVs that have a maximum top nameplate speed of less than 20 miles per hour may also be certified to the Outdoor Power Equipment Institute (OPEI) standards OPEI Z130.1 and OPEI Z135.

An unfinished and/or unassembled LSPTV subject to this investigation covers at a minimum a subassembly, also known as a “rolling chassis,” which is typically comprised of, but not limited to, a frame or body with front and/or rear suspension components (such as arms, springs, axles, spindles, and shafts) installed and powertrain components (including either an electric motor or a gas-powered internal combustion engine) installed or ready for installation.

When imported together with a rolling chassis subject to this investigation, other LSPTV components, such as batteries, bumpers, wheel and tire assemblies, cowlings, fenders, grills, kick plates, steering column and steering wheel assemblies, dash assembly, seat assemblies, pedal assemblies, brake assemblies, canopy or roof assemblies, temporary rain enclosures, windshields, mirrors, headlights, taillights, lighting systems, or storage—whether assembled or unassembled, whether as part of a kit or not, and whether or not accompanied by additional components—constitute part of an unfinished and/or unassembled LSPTV that is subject to this investigation. The inclusion of other products, components, or assemblies not described here does not remove the product from the scope.

Subject LSPTVs and subassemblies are covered by the scope of this investigation whether or not they are accompanied by other parts. This investigation covers all LSPTVs and subassemblies meeting the physical description of the scope, regardless of overall length, width, or height. Individual components that do not comprise a subject LSPTV or subassembly that are entered by themselves are not subject to the investigation, but components entered with a LSPTV or subassembly, whether finished or unfinished and whether assembled or unassembled, are subject merchandise.

LSPTVs and subassemblies subject to this investigation include those that are produced in the subject country whether assembled with other components in the subject country or in a third country. Processing or completion of finished and unfinished LSPTVs and subassemblies either in the subject country or in a third country does not remove the product from the scope.

Specifically excluded from the scope of this investigation are all-terrain vehicles (which typically have straddle seating and are steered by handlebars), multipurpose off-highway utility vehicles (which have a maximum top nameplate speed of greater than 25 miles per hour), and recreational off-highway vehicles (which have a maximum top nameplate speed of greater than 30 miles per hour). Also excluded from the scope are go-karts, electric scooters, golf trolleys, and mobility aids (which include power wheelchairs and scooters which are used for the express purpose of enabling mobility for a person).

The LSPTVs subject to the investigation are typically classified in the Harmonized Tariff Schedule of the United States (HTSUS) at subheading 8703.10.5030. LSPTVs subject to the investigation may also enter under HTSUS subheading 8703.10.5060 and 8703.90.0100. The LSPTV subassemblies that are subject to the investigation typically enter under HTSUS subheadings 8706.00.1540 and 8707.10.0040. The HTSUS subheadings are provided for convenience and customs purposes only, and the written description of the merchandise subject to the investigation is dispositive.

Appendix II

List of Topics Discussed in the Preliminary Decision Memorandum

I. Summary

II. Background

III. Period of Investigation

IV. Discussion of the Methodology

V. Preliminary Affirmative Determination of Critical Circumstances

VI. Adjustment Under Section 777(A)(F) of the Act

VII. Adjustment to Cash Deposit Rate for Export Subsidies in the Companion CVD Investigation

VIII. Currency Conversion

IX. Recommendation

Appendix III

Companies Eligible for a Separate Rate

| Exporter | Producer
1 | Alwayz Electric Vehicle (Chuzhou) Co., Ltd | Alwayz Electric Vehicle (Chuzhou) Co., Ltd.
2 | Dongguan Excar Electric Vehicle Co., Ltd | Dongguan Excar Electric Vehicle Co., Ltd.
3 | GD Evtong New Tech Co., Ltd | Guangdong Yitong New Energey Technology Co., Ltd.
4 | Greenman Electric Vehicles Co., Ltd | Greenman Electric Vehicles Co., Ltd.
5 | Guangdong Marshell Electric Vehicle Co., Ltd | Guangdong Marshell Electric Vehicle Co., Ltd.
6 | Guangdong Yatian Industrial Co., Ltd | Guangdong Yatian Industrial Co., Ltd.
7 | Guangdong Yitong New Energy Technology Co., Ltd | Guangdong Yitong New Energy Technology Co., Ltd.
8 | Guangzhou BorCart Electric Vehicle Co., Ltd | Guangzhou Langqing Electric Car Co., Ltd.
9 | Guangzhou Langqing Electric Car Co., Ltd | Guangzhou Langqing Electric Car Co., Ltd.
10 | Guangzhou Rariro Vehicle Co., Ltd | Guangzhou Rariro Vehicle Co., Ltd.
11 | Guangzhou Sachs Bikes Technology Co., Ltd | LuckyRam Technology Co., Ltd.
12 | Haike EV Co., Ltd | Shandong Haike Vehicle Technology Co., Ltd.
13 | Jiangsu FMX Electric Vehicle Co., Ltd | Jiangsu FMX Electric Vehicle Co., Ltd.
14 | Jiaxing Learoad Special Vehicle Co., Ltd | Jiaxing Learoad Special Vehicle Co., Ltd.
15 | Kangdi Electric Vehicle (Hainan) Co., Ltd | Kangdi Electric Vehicle (Hainan) Co., Ltd.
16 | Qingdao Beemotor New Energy Vehicle Co., Ltd | Shandong Haike Vehicle Technology Co., Ltd.
17 | Qingdao Beemotor New Energy Vehicle Co., Ltd | Dezhou Fuqing Vehicle Industry Co., Ltd.
18 | Shandong Qiaoke New Energy Auto Industry Co., Ltd | Shandong Qiaoke New Energy Auto Industry Co., Ltd.
19 | Shandong Yongli New Energy Vehicle Industry Co., Ltd | Dachi Intelligent Automobile (Rizhao) Co., Ltd.
20 | Shanghai Dachi Auto Power Co., Ltd | Dachi Intelligent Automobile (Rizhao) Co., Ltd.
21 | Shanghai Helios New Energy Technology Co., Ltd | Wuxi Yaxi Electric Vehicle Sales Co., Ltd.
22 | Shanghai Sirius International Trading Co., Ltd | Shanghai Sirius International Trading Co., Ltd.
23 | Shanghai Yixing Power Technology Co., Ltd | Shanghai Yixing Power Technology Co., Ltd.
24 | Shenzhen Aoxiang Industrial Development Co., Ltd | Shenzhen Aoxiang Industrial Development Co., Ltd.
25 | Shenzhen Lento New Energy Electric Vehicle Co., Ltd | Guangdong Lantu Electric Vehicle Co., Ltd.
26 | Suzhou Alwayz Electric Vehicle Manufacturing Co., Ltd | Suzhou Alwayz Electric Vehicle Manufacturing Co., Ltd.
27 | Suzhou Eagle Electric Vehicle Manufacturing Co., Ltd | Suzhou Eagle Electric Vehicle Manufacturing Co., Ltd.
28 | Suzhou Lexsong Electromechanical Equipment Co., Ltd | Wuxi Yaxi Electric Vehicle Co., Ltd.
29 | Suzhou Lexsong Electromechanical Equipment Co., Ltd | Jiangsu Feimaxiang Technology Co., Ltd.
30 | Suzhou Wintao Intelligent Technology Co., Ltd | Suzhou Wintao Intelligent Technology Co., Ltd.
31 | Taiyuan Steel Engineering Corp., Ltd | Wuxi Yaxi Electric Vehicle Sales Co., Ltd.
32 | Taizhou Yoki Carts Co., Ltd | Taizhou Yoki Carts Co., Ltd.
33 | Top New Energy Technology (Dongguan) Co., Ltd | Guangdong Yitong New Energy Technology Co., Ltd.
34 | Wuxi Hio Special Vehicle Co., Ltd | Wuxi Hio Special Vehicle Co., Ltd.
35 | Wuxi Yaxi Electric Vehicle Sales Co., Ltd | Wuxi Yaxi Electric Vehicle Co., Ltd.
36 | Xingtel Xiamen Group Co., Ltd | Xingtel Xiamen Group Co., Ltd.
37 | Yangzhou Whanlong Electric Vehicle Co., Ltd | Yangzhou Whanlong Electric Vehicle Co., Ltd.
38 | Zhejiang Taotao Vehicles Co., Ltd | Zhejiang Taotao Vehicles Co., Ltd.

[FR Doc. 2025-01945 Filed 1-29-25; 8:45 am]

BILLING CODE 3510-DS-P